DEPARTMENT OF TRANSPORTATION

Federal Aviation Administration

14 CFR Part 39

[Docket No. FAA-2013-0398; Directorate Identifier 2011-SW-065-AD; Amendment 39-17578; AD 2013-18-05]

RIN 2120-AA64

Airworthiness Directives; Eurocopter Deutschland GmbH Helicopters

AGENCY: Federal Aviation Administration (FAA), DOT.

ACTION: Final rule.

SUMMARY: We are adopting a new airworthiness directive (AD) for Eurocopter Deutschland GmbH (ECD) Model EC135P1, EC135P2, EC135P2+, EC135T1, EC135T2, and EC135T2+ helicopters with certain fire extinguishing systems installed. This AD requires modifying the fire extinguishing system injection tubes. This AD is prompted by a report that the injection tubes are deforming due to heat. The actions required by this AD are intended to prevent deformation of the fire extinguishing system injection tubes during a fire, which could result in impaired distribution of the fire extinguishing agent, failure of the fire extinguishing system to contain an engine fire, and subsequent loss of control of the helicopter.

DATES: This AD is effective October 18, 2013.

The Director of the Federal Register approved the incorporation by reference of a certain document listed in this AD as of October 18, 2013.

ADDRESSES: For service information identified in this AD, contact American Eurocopter Corporation, 2701 N. Forum Drive, Grand Prairie, TX 75052; telephone (972) 641-0000 or (800) 232-0323; fax (972) 641-3775; or at http://www.eurocopter.com/techpub. You may review the referenced service information at the FAA, Office of the Regional Counsel, Southwest Region, 2601 Meacham Blvd., Room 663, Fort Worth, Texas 76137.

Examining the AD Docket

You may examine the AD docket on the Internet at http://www.regulations.gov or in person at the Docket Operations Office between 9 a.m. and 5 p.m., Monday through Friday, except Federal holidays. The AD docket contains this AD, the foreign authority's AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Matt Wilbanks, Aviation Safety Engineer, Rotorcraft Certification Office, Rotorcraft Directorate, FAA, 2601 Meacham Blvd., Fort Worth, Texas 76137; telephone (817) 222-5110; email matt.wilbanks@faa.gov.

SUPPLEMENTARY INFORMATION:

Discussion

On May 8, 2013, at 78 FR 26715, the Federal Register published our notice of proposed rulemaking (NPRM), which proposed to amend 14 CFR part 39 to include an AD that would apply to ECD Model EC135P1, EC135P2, EC135P2+, EC135T1, EC135T2, and EC135T2+ helicopters with a fire extinguishing system part number (P/N) L262M1808101, P/N L262M1812101, or P/N L262M1812102 installed. The NPRM proposed to require, within 30 days, cutting out a portion of the existing fire extinguishing system injection tubes and replacing that portion with a section of new injection tubing. The proposed requirements were intended to prevent deformation of the fire extinguishing system injection tubes during a fire, which could result in impaired distribution of the fire extinguishing agent, failure of the fire extinguishing system to contain an engine fire, and subsequent loss of control of the helicopter.

The NPRM was prompted by AD No. 2011-0172, dated September 7, 2011, issued by the European Aviation Safety Agency (EASA), which is the Technical Agent for the Member States of the European Union. EASA issued AD No. 2011-0172 to correct an unsafe condition for ECD Model EC 135 P1, EC 135 P2, EC 135 P2+, EC 135 T1, EC 135 T2, EC 135 T2+, EC 635 T1, EC 635 P2+, and EC 635 T2+ helicopters with a single engine fire extinguishing system, P/N L262M1808101, P/N L262M1812101, or P/N L262M1812102, or with a dual engine fire extinguishing system, P/N L262M1813102, installed. EASA advises that the fire extinguishing system injection tubes on Model EC 135 and EC 635 helicopters “are not compliant with the relevant airworthiness requirements, because they are also forming part of the firewall.” According to EASA, during an engine fire, this condition may affect the function of the fire extinguishing system and degrade the fire containment capability of the system to the extent that it is incapable of extinguishing an engine fire. For these reasons, EASA issued AD 2011-0172, which requires modification of the affected injection tubes by removing part of the tubing and replacing it with a section of heat-resistant injection tubing.

Comments

We gave the public the opportunity to participate in developing this AD, but we did not receive any comments on the NPRM (78 FR 26715, May 8, 2013).

FAA's Determination

These helicopters have been approved by the aviation authority of the Federal Republic of Germany and are approved for operation in the United States. Pursuant to our bilateral agreement with the Federal Republic of Germany, EASA, its technical representative, has notified us of the unsafe condition described in the EASA AD. We are issuing this AD because we evaluated all information provided by EASA and determined the unsafe condition exists and is likely to exist or develop on other helicopters of these same type designs and that air safety and the public interest require adopting the AD requirements as proposed.

Differences Between This AD and the EASA AD

The EASA AD applies to helicopters with a dual engine fire extinguishing system and this AD does not because these systems are only installed on helicopters operated by the German Federal Police and are not operated in the U.S.

Related Service Information

ECD has issued EC135 Alert Service Bulletin No. EC135-26A-003, Revision 2, dated December 19, 2011, which describes procedures to remove a section of the fire extinguishing system injection tubing and replace it with heat-resistant injection tubing.

Costs of Compliance

We estimate that this AD will affect 246 helicopters of U.S. Registry. We estimate that operators may incur the following costs in order to comply with this AD. Modifying the injection tubes will require about 4.5 work-hours at an average labor rate of $85 per hour and required parts would cost about $900, for a cost of $1,282 per helicopter and a total cost to U.S. operators of $315,372.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-18-05 Eurocopter Deutschland GmbH: Amendment 39-17578; Docket No. FAA-2013-0398; Directorate Identifier 2011-SW-065-AD.

(a) Applicability

This AD applies to Eurocopter Deutschland GmbH (ECD) Model EC135P1, EC135P2, EC135P2+, EC135T1, EC135T2, and EC135T2+ helicopters with a fire extinguishing system part number (P/N) L262M1808101, P/N L262M1812101, or P/N L262M1812102 installed, certificated in any category.

(b) Unsafe Condition

This AD defines the unsafe condition as deformation of the fire extinguishing system injection tubes during an engine fire, which could result in impaired distribution of the fire extinguishing agent, failure of the fire extinguishing system to contain a fire, and subsequent loss of control of the helicopter.

(c) Effective Date

This AD becomes effective October 18, 2013.

(d) Compliance

You are responsible for performing each action required by this AD within the specified compliance time unless it has already been accomplished prior to that time.

(e) Required Actions

(1) Within 30 days, modify each fire extinguishing system injection tube by removing and replacing a section of the tubing in accordance with the Accomplishment Instructions, paragraph 3.B., of Eurocopter EC135 Alert Service Bulletin No. EC135-26A-003, Revision 2, dated December 19, 2011.

(2) Do not install an injection tube, P/N L262M1810101, P/N L262M1811801, or P/N L262M1809101, on any helicopter unless it has been modified as required by this AD.

(f) Alternative Methods of Compliance (AMOCs)

(1) The Manager, Safety Management Group, FAA, may approve AMOCs for this AD. Send your proposal to: Matt Wilbanks, Aviation Safety Engineer, Rotorcraft Certification Office, Rotorcraft Directorate, FAA, 2601 Meacham Blvd., Fort Worth, Texas 76137; telephone (817) 222-5110; email matt.wilbanks@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

The subject of this AD is addressed in European Aviation Safety Agency (EASA) AD No. 2011-0172, dated September 7, 2011. You may view the EASA AD in the AD Docket on the internet at http://www.regulations.gov.

(h) Subject

Joint Aircraft Service Component (JASC) Code: 2620: Extinguishing System.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Eurocopter EC135 Alert Service Bulletin No. EC135-26A-003, Revision 2, dated December 19, 2011.

(ii) Reserved.

(3) For Eurocopter service information identified in this AD, contact American Eurocopter Corporation, 2701 N. Forum Drive, Grand Prairie, TX 75052; telephone (972) 641-0000 or (800) 232-0323; fax (972) 641-3775; or at http://www.eurocopter.com/techpub.

(4) You may view this service information at FAA, Office of the Regional Counsel, Southwest Region, 2601 Meacham Blvd., Room 663, Fort Worth, Texas 76137. For information on the availability of this material at the FAA, call (817) 222-5110.

(5) You may also view this service information that is incorporated by reference at the National Archives and Records Administration (NARA). For information on the availability of this material at NARA, call (202) 741-6030, or go to: http://www.archives.gov/federal-register/cfr/ibr-locations.html.

Issued in Fort Worth, Texas, on August 27, 2013.
Kim Smith,
Directorate Manager, Rotorcraft Directorate, Aircraft Certification Service.

[FR Doc. 2013-22181 Filed 9-12-13; 8:45 am]

BILLING CODE 4910-13-P